DEPARTMENT OF THE TREASURY

Internal Revenue Service

Advisory Group to the Internal Revenue Service. Tax Exempt and Government Entities Division; Meeting

AGENCY: Internal Revenue Service (IRS). Treasury.

ACTION: Location change for public meeting of the Advisory Committee on Tax Exempt and Government Entities (ACT).

SUMMARY: This notice corrects information regarding the meeting room for the public meeting of the Advisory Committee on Tax Exempt and Government Entities (ACT) on Friday, June 21, 2002.

FOR FURTHER INFORMATION CONTACT: Rick Trevino, Office of Communication and Liaison; 1111 Constitution Ave., NW.; T:CL—Penn Bldg; Washington, DC 20224. Telephone: 202-283-9950 (not a toll-free number). E-mail address: Rick.Trevino@irs.gov.

SUPPLEMENTARY INFORMATION: A notice of a public meeting of the Advisory Committee on Tax Exempt and Government Entities was published in the Federal Register on May 29, 2002 (67 FR 37472). The location of the meeting has changed from Room 3313 to Room 4718 in the Main IRS building located at 1111 Constitution Ave., NW, Washington, DC.

Dated: June 11, 2002.
Steven J. Pyrek,
Designated Federal Official, Tax Exempt and Government Entities Division.

[FR Doc. 02-15714 Filed 6-18-02; 3:32 pm]

BILLING CODE 4830-01-P